DEPARTMENT OF AGRICULTURE

Animal and Plant Health Inspection Service

9 CFR Part 93

[Docket No. 99-054-2]

Spanish Pure Breed Horses From Spain

AGENCY: Animal and Plant Health Inspection Service, USDA.

ACTION: Final rule.

SUMMARY: We are amending the animal import regulations to allow Spanish Pure Breed horses from Spain to be imported into the United States under the same preexport testing and quarantine conditions that apply to thoroughbred horses from regions in which contagious equine metritis exists or may exist. This action will relieve some restrictions on the importation of Spanish Pure Breed horses into the United States while continuing to protect against the introduction and dissemination of contagious equine metritis.

EFFECTIVE DATE: August 16, 2000.

FOR FURTHER INFORMATION CONTACT: Dr. Gary S. Colgrove, Assistant Director, Sanitary Trade Issues Team, National Center for Import and Export, VS, APHIS, 4700 River Road Unit 39, Riverdale, MD 20737-1231; (301) 734-8364.

SUPPLEMENTARY INFORMATION:

Background

The regulations in 9 CFR part 93 (referred to below as the regulations) prohibit or restrict the importation of certain animals into the United States to prevent the introduction of communicable diseases of livestock and poultry. Subpart C—Horses, §§ 93.300 through 92.326 of the regulations, pertains to the importation of horses into the United States. Section 93.301 of the regulations contains specific provisions for the quarantine and testing of horses from regions affected with contagious equine metritis (CEM), a highly contagious bacterial venereal disease that affects breeding and fertility. Section 93.301 also identifies regions where CEM exists and regions that trade horses freely with those where CEM exists without testing for CEM. Section 93.301 prohibits, with certain exceptions, the importation of horses into the United States from those areas. The European Union—of which Spain is a Member State—is listed in § 93.301 as a region where CEM exists or may exist.

On April 3, 2000, we published in the Federal Register (65 FR 17455-17458, Docket No. 99-054-1) a proposal to amend the animal importation regulations by allowing Spanish Pure Breed horses to be imported from Spain into the United States under the same conditions that apply to thoroughbred horses from France, Germany, Ireland, and the United Kingdom. Specifically, the regulations previously provided that Spanish Pure Breed horses other than geldings, weanlings, and yearlings could be imported for permanent entry into the United States only in accordance with § 93.301(e), which requires preexport testing, Federal quarantine upon arrival, and further quarantine in a State approved to receive horses from listed regions. Under the proposal, imported Spanish Pure Breed stallions and mares that are more than 731 days old—like thoroughbred horses from France, Germany, Ireland, and the United Kingdom—that have tested negative for CEM in the country of origin and have undergone Federal quarantine upon arrival in the United States would not be subject to additional quarantine, testing, and treatment within an approved State. In addition, we proposed to add Spain's Servicio de Cria Caballar y Remonta as a breed association specifically approved by the U.S. Department of Agriculture to provide factual, current information regarding the activities of Spanish Pure Breed horses.

We solicited comments concerning our proposal for 60 days ending June 2, 2000. We received one comment by that date. The commenter, an importer of Spanish horses, expressed support for our proposal, stating that the proposed changes would help his industry. However, the commenter also asserted that our requirement that mares over 2 years old undergo Federal quarantine upon arrival in the United States was illogical and needlessly expensive, since Spanish veterinarians test and inspect the animals for CEM prior to export, and Spain is considered free of the disease.

We are making no changes to the final rule based on this comment. While we agree with the commenter that CEM presents a negligible risk in imported Spanish Pure Breed horses, with certain exceptions, all horses intended for permanent entry into the United States are also required to be detained under Federal quarantine while official tests for dourine, glanders, equine piroplasmosis, and equine infectious anemia are conducted. The animals must test negative for all of these diseases and be found by an Animal and Plant Health Inspection Service (APHIS) veterinarian to be free from any clinical evidence of disease before they can be released from quarantine. Because of the serious nature of these diseases, we believe that these requirements continue to be necessary to ensure that infected horses do not enter this country and jeopardize the health of the U.S. horse population.

CEM is difficult to diagnose and control, and infected horses of both sexes are often asymptomatic. Repeated sampling, at appropriate time intervals, constitutes the only satisfactory means of determining CEM status in horses. Therefore, we also must continue to require that all horses that have tested positive for CEM prior to importation—despite the fact that they must subsequently have been treated, tested, and found negative for the disease before being exported to the United States—undergo further quarantine, treatment, and repeated testing in a State approved to receive them upon completion of the Federal quarantine. Spanish Pure Breed horses that have tested positive for CEM prior to export and, upon treatment and retesting, been found free of the disease would still have to undergo treatment within a State approved to receive such horses. However, this action will save importers of Spanish Pure Breed horses that have tested negative to the disease prior to export and have undergone the requisite Federal quarantine the additional costs that would be associated with further, in-State quarantine and testing.

Therefore, for the reasons given in the proposed rule and in this document, we are adopting the proposed rule as a final rule, without change.

Effective Date

This is a substantive rule that relieves restrictions and, pursuant to the provisions of 5 U.S.C. 553, may be made effective less than 30 days after publication in the Federal Register. By allowing Spanish Pure Breed horses to be imported from Spain into the United States under the same conditions that apply to thoroughbred horses from certain other regions where contagious equine metritis exists or may exist, this rule will make the importation of Spanish Pure Breed horses less expensive for U.S. importers. We have determined that approximately 2 weeks are needed to ensure that APHIS personnel at ports of entry receive official notice of this change in the regulations. Therefore, the Administrator of APHIS has determined that this rule should be made effective 15 days after publication in the Federal Register.

Executive Order 12866 and Regulatory Flexibility Act

This rule has been reviewed under Executive Order 12866. The rule has been determined to be not significant for the purposes of Executive Order 12866 and, therefore, has not been reviewed by the Office of Management and Budget.

This rule amends the regulations in 9 CFR part 93 to allow Spanish Pure Breed horses to be imported from Spain into the United States under the same conditions that apply to thoroughbred horses from France, Germany, Ireland, and the United Kingdom. We are taking this action in response to a request we have received from Spain's Equine Breeding Service to relieve some of the restrictions on the importation of Spanish Pure Breed horses from Spain since the life histories and medical records of these horses can be certified by Spanish Government veterinarians.

In 1997, there were 375,218 farms in the United States keeping 2,427,277 horses of all kinds. Approximately 79,516 farms sold 325,306 horses, receiving $1.03 billion in sale revenues. Approximately 98 percent of the farms that sold horses have less than $500,000 in annual revenue and, therefore, are considered small entities by the U.S. Small Business Administration.

U.S. importers and breeders of Spanish Pure Breed horses will be affected by this rule. This rule will make it less expensive for importers to import Spanish Pure Breed horses from Spain.

There are approximately 270 domestic breeders of Spanish Pure Breed horses in the United States, most of which are likely to be small entities. In 1998, there were approximately 2,500 Spanish Pure Breed horses in the United States, and only 225 foals were registered that year.

In 1995 and 1996, 4 horses (not all of which were Spanish Pure Breed horses) were imported into the United States from Spain; there were 21 horses in 1997, 39 in 1998, and 46 in 1999. Under this rule, we estimate that the number of Spanish Pure Breed horses imported into the United States from Spain will most likely increase to an average of about 60 per year, for the next 3 to 5 years, with a maximum of 100 in any given year.

Currently, the demand for Spanish Pure Breed horses in the United States is greater than can be supplied by domestic breeders and the small number of these horses imported from Costa Rica, Mexico, and Spain. In 1997, 225 Spanish Pure Breed foals were registered in the United States, while a total of 50 were imported into the United States from all over the world, despite the high costs of shipping (approximately $5,000 per horse for air freight plus insurance against mortality, figured at 1 percent of the horse's declared value), quarantine, and testing. Because domestic Spanish Pure Breed horses are less expensive than imports, the demand for domestic Spanish Pure Breed horses should not decrease as a result of this rule. This rule will help satisfy the growing demand for the horses in the United States and make it less expensive for U.S. breeders and importers to obtain them from Spain.

We do not expect domestic breeders of Spanish Pure Breed horses to be affected by this rule, since the demand in the United States for Spanish Pure Breed horses is greater than the domestic supply and since domestic Spanish Pure Breed horses will still be less expensive than imported ones.

Under these circumstances, the Administrator of APHIS has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

In accordance with the Paperwork Reduction Act of 1995 (44 U.S.C. 3501 et seq.), the information collection or recordkeeping requirements included in this rule have been approved by the Office of Management and Budget (OMB) under OMB control number 0579-0152.

List of Subjects in 9 CFR Part 93

Animal diseases, Imports, Livestock, Poultry and poultry products, Quarantine, Reporting and recordkeeping requirements.

Accordingly, we are amending 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 is revised to read as follows:

Authority: 7 U.S.C. 1622; 19 U.S.C. 1306; 21 U.S.C. 102-105, 111, 114a, 134a, 134b, 134c, 134d, 134f, 136, and 136a; 31 U.S.C. 9701; 7 CFR 2.22, 2.80, and 371.4.

2. Section 93.301 is amended as follows:

a. In footnote 6, by adding the words “Servicio de Cria Caballar y Remonta for Spain;” immediately after the word “Department:”.

b. By revising paragraph (c)(2)(v), the heading to paragraph (d), and the introductory text in paragraph (d)(1).

c. In paragraph (d)(1)(ii)(D), the first sentence, by removing the words “For thoroughbred horses” and adding the words “For Spanish Pure Breed horses and thoroughbred horses” in their place.

d. In paragraph (d)(3), by removing the words “Thoroughbred horses” and adding the words “Spanish Pure Breed horses and thoroughbred horses” in their place each time they appear.

§ 93.301 General prohibitions; exceptions.

* * * * *

(c) * * *

(2) * * *

(v) Spanish Pure Breed horses imported for permanent entry from Spain or thoroughbred horses imported for permanent entry from France, Germany, Ireland, or the United Kingdom if the horses meet the requirements of paragraph (d) of this section;

* * * * *

(d) Spanish Pure Breed horses from Spain and thoroughbred horses from France, Germany, Ireland, and the United Kingdom. (1) Spanish Pure Breed horses from Spain and thoroughbred horses from France, Germany, Ireland, and the United Kingdom may be imported for permanent entry if the horses meet the following requirements:

* * * * *

Done in Washington, DC, this 25th day of July 2000.
Bobby R. Acord,
Acting Administrator, Animal and Plant Health Inspection Service.

[FR Doc. 00-19380 Filed 7-31-00; 8:45 am]

BILLING CODE 3410-34-P